FEDERAL RESERVE SYSTEM

Agency Information Collection Activities: Announcement of Board Approval Under Delegated Authority and Submission to OMB

SUMMARY:

Background

Notice is hereby given of the final approval of proposed information collection by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer —Michelle Shore—Division of Research and Statistics, Board of Governors of the Federal Reserve System, Washington, DC 20551 (202-452-3829).

OMB Desk Officer—Shagufta Ahmed —Office of Information and Regulatory Affairs, Office of Management and Budget, New Executive Office Building, Room 10235, Washington, DC 20503.

Final approval under OMB delegated authority of the implementation of the following report:

Report title: Recordkeeping Requirements Associated with Limitations on Interbank Liabilities.

Agency form number: Regulation F.

OMB control number: 7100-NEW.

Frequency: On occasion.

Reporters: State member banks and insured domestic branches of foreign banks.

Estimated annual reporting hours: 6,808 hours.

Estimated average hours per response: 8 hours.

Number of respondents: 851.

General description of report: This information collection is mandatory pursuant to section 23 of the Federal Reserve Act, as added by section 308 of the Federal Deposit Insurance Corporation Improvement Act of 1991 (FDICIA) (12 U.S.C. 371b-2). Because the Federal Reserve does not collect any information, no issue of confidentiality normally arises. However, if a compliance program becomes a Board record during an examination, the information may be protected from disclosure under exemptions (b)(4) and (b)(8) of the Freedom of Information Act (5 U.S.C. 552(b)(4) and (b)(8)).

Abstract: Pursuant to FDICIA, the Federal Reserve is required to prescribe standards to limit the risks posed by exposure of insured depository institutions to the depository institutions with which they do business (correspondents). Regulation F generally requires banks to develop and implement internal prudential policies and procedures to evaluate and control exposure to correspondents. Section 206.3 of Regulation F stipulates that a bank shall establish and maintain written policies and procedures to prevent excessive exposure to any individual correspondent in relation to the condition of the correspondent. In these policies and procedures, a bank should take into account credit and liquidity risks, including operational risks, in selecting correspondents and terminating those relationships. The policies and procedures should be reviewed and approved by the bank's board of directors at least annually.

Current Actions: On July 20, 2010, the Federal Reserve published a notice in the Federal Register (75 FR 42089) requesting public comment for 60 days on the implementation of the Recordkeeping Requirements Associated with Limitations on Interbank Liabilities. The comment period for this notice expired on September 20, 2010. The Federal Reserve did not receive any comments. The recordkeeping requirements will be implemented as proposed.

Board of Governors of the Federal Reserve System, September 23, 2010.
Jennifer J. Johnson,
Secretary of the Board.

[FR Doc. 2010-24265 Filed 9-27-10; 8:45 am]

BILLING CODE 6210-01-P